DEPARTMENT OF COMMERCE

International Trade Administration

Applications for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100 W, U.S. Department of Commerce, Franklin Court Building, 1099 14th Street, NW., Washington, DC.

Docket Number: 05-038. Applicant: University of California, San Diego, Dept. Of Chemistry/Biochemistry, 9500 Gilman Drive, M.C. 0358, La Jolla, CA 92093-0358 Instrument: Low-Temperature Ultra-High Vacuum Scanning Tunneling Microscope. Manufacturer: Omicron NanoTechnology. GmbH, Germany. Intended Use: The instrument is intended to be used to:

(1) Develop a basic understanding of chemically selective adsorption onto chemical sensor materials;

(2) Determine how to optimize interfacial bonding in an effort to reduce defects at the crucial oxide/semiconductor interface present in high-k dielectric MOSFETs;

(3) Develop a method to determine concentrations of antibodies that are present on the surfaces of cancer cells;

(4) Optimize the manufacture and processing of mid-IR focal plane arrays for use in night vision applications.

Application accepted by Commissioner of Customs: August 16, 2005.

Docket Number: 05-039. Applicant: University of Wisconsin-Eau Claire, 105 Garfield Avenue, Eau Claire, WI 54701. Instrument: Automatic Fusion Machine, Model Autofluxer 4. Manufacturer: Breitlander, GmbH, Germany. Intended Use: The instrument is intended to be used to dissolve whole rock powder by a combination fusion/acid digestion for trace element analysis by inductively coupled plasma mass spectrometry for geochemical characterization of geological samples. It will also be used in courses and for student research. Application accepted by Commissioner of Customs: August 16, 2005.

Docket Number: 05-040. Applicant: National Renewable Energy Laboratory, 1617 Cole Blvd., Golden, CO 80401. Instrument: Dual Beam Focused Ion Beam Microscope, Model Nova 200 NanoLab. Manufacturer: FEI Company, The Netherlands. Intended Use: The instrument is intended to be used to study the structure and physical chemistry of semiconductors used for photovoltaics (solar cells). The general goal of these investigations is to better understand the structural and chemical properties and relate them to the optical and electrical performance of these thin film devices. In addition, the FIB will also be used to characterize a variety of nano-structured materials such as carbon and metal nano-structures used for the development of hydrogen storage systems. Application accepted by Commissioner of Customs: August 16, 2005.

Gerald A. Zerdy,
Program Manager, Statutory Import Programs Staff.

[FR Doc. E5-5014 Filed 9-13-05; 8:45 am]

BILLING CODE 3510-DS-P